SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before June 12, 2001.

ADDRESSES: Send all comments regarding whether these information collections are necessary for the proper performance of the function of the agency, whether the burden estimate is accurate, and if there are ways to minimize the estimated burden and enhance the quality of the collections, to Carol Fendler, System Accountant, Office of Small Business Investment, Small Business Administration, 409 3rd Street, S.W., Suite 6300.

FOR FURTHER INFORMATION CONTACT: Carol Fendler, System Accountant, (202) 205-7559 or Curtis B. Rich, Management Analyst, (202) 205-7030.

SUPPLEMENTARY INFORMATION: Title: Amendments to License Application.

Form No: SBA Form 415C.

Description of Respondents: Small Business Investment.

Annual Responses: 1,200.

Annual Burden: 300.

Jacqueline White,
Chief, Administrative Information Branch.

[FR Doc. 01-9166 Filed 4-12-01; 8:45 am]

BILLING CODE 8025-01-U